DEPARTMENT OF HEALTH AND HUMAN SERVICES

Centers for Disease Control and Prevention

Requirements and Registration for Are You Prepared? Video Contest

AGENCY: Centers for Disease Control and Prevention, Department of Health and Human Services.

ACTION: General Notice.

SUMMARY: The Centers for Disease Control and Prevention (CDC), located within the Department of Health and Human Services (HHS) announces a new Challenge found at http://www.Challenge.gov to support National Preparedness Month. September is National Preparedness Month and HHS/CDC wants to know: Are You Prepared? HHS/CDC is challenging the general public to make a 60 second video that shows how you are prepared for any emergency and reinforces the key message: “Get a Kit. Make a Plan. Be Informed.” Individuals and groups can enter the contests. Participants are encouraged to use creative ways to prepare for an emergency.

DATES: Submissions for this Challenge will be accepted through October 11, 2011. Winners will be announced on or about October 28, 2011 on http://www.cdc.gov and http://www.youtube.com/CDCStreamingHealth.

FOR FURTHER INFORMATION CONTACT: David Daigle, Office of Public Health Preparedness and Response, Centers for Disease Control and Prevention, 1600 Clifton Road, NE., MS-D44, Atlanta, Georgia 30333, phone: 404-639-7405.

SUPPLEMENTARY INFORMATION:

Subject of Challenge Competition

Emergency Preparedness Video Contest. September is National Preparedness Month and we want to know how the public is prepared for all emergencies. We are encouraging people to enter the Are You Prepared? Video Contest by submitting a 60 second or less video that includes our key message, “Get a Kit, Make a Plan, Be Informed.” All submissions will be entered through the Challenge.gov Web site. This video contest promotes emergency preparedness and engages the public in innovative methods of preparing for emergencies of all types. HHS/CDC wants to engage a younger population that is typically not as prepared in preparation for all hazards. Information on the contest can also be found at http://prepare/challenge.gov.

Eligibility Rules for Participating in the Competition

The HHS/CDC Are You Prepared? Video Contest is only open to individuals, private or public entities, or groups that meet the following requirements: In the case of a private entity, the entity must be incorporated in and maintain a primary place of business in the United States, and in the case of an individual, whether participating singly or in a group, must be a citizen or permanent resident of the United States who is at least thirteen (13) years of age at the time of entry; if the Contestant/Submitter is under eighteen (18) years of age at the time of entry, the Contestant/Submitter must have permission from a parent or guardian. Contestants/Submitters must also have the permission of the parent or guardian of each person under the age of 18 who is seen or heard in the video. Employees and contractors of CDC and HHS are not eligible, nor are their immediate family members. The Contest is subject to all applicable federal laws and regulations. Participation constitutes Contestant's full and unconditional agreement to the Official Rules and CDC administrative decisions, which are final and binding in all matters related to the Contest, and can be found at: http://www.Challenge.gov. Eligibility for a prize award is contingent upon fulfilling all requirements set forth herein. An individual or entity shall not be deemed ineligible because the individual or entity used Federal facilities or consulted with Federal employees during a competition if the facilities and employees are made available to all individuals and entities participating in the competition on an equitable basis.

Registration Process for Participants

All participants must submit their video through http://www.Challenge.gov. Other entries will not be considered.

Amount of the Prize

There is no monetary prize given to the winner. Winners will be announced on or about October 28, 2011 on http://www.cdc.gov and http://www.youtube.com/CDCStreamingHealth.

Basis Upon Which Winner Will Be Selected

The winner will be selected based on how effective and creative their video is in addressing emergency preparedness information, specifically the message of “Get a Kit, Make a Plan, Be Informed.” Other deciding factors are whether they mentioned possible emergencies (e.g., tornados, hurricanes, earthquakes) and if or how they incorporate the emergency preparedness Web site (http://emergency.cdc.gov).

Dated: September 2, 2011.
John P. Murphy,
Business Operations Lead, Office of the Associate Director for Science, Centers for Disease Control and Prevention.

[FR Doc. 2011-23068 Filed 9-8-11; 8:45 am]

BILLING CODE 4163-18-P